DEPARTMENT OF EDUCATION

Submission for OMB Review; Comment Request

AGENCY: Department of Education.

SUMMARY: The Acting Director, Information Collection Clearance Division, Regulatory Information Management Services, Office of Management invites comments on the submission for OMB review as required by the Paperwork Reduction Act of 1995.

DATES: Interested persons are invited to submit comments on or before June 17, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: May 12, 2010.
James Hyler,
Acting Director, Information Collection Clearance Division, Regulatory Information Management Services, Office of Management.

Institute of Education Sciences

Type of Review: Reinstatement.

Title: 2011-12 National Postsecondary Student Aid Study (NPSAS:12) Field Test.

Frequency: Annually.

Affected Public: Business or other for-profit; Individuals or households; Not-for-profit institutions.

Reporting and Recordkeeping Hour Burden:

Responses: 616.

Burden Hours: 576.

Abstract: NPSAS, a nationally representative study of how students and their families finance education beyond high school, was first implemented by National Center for Education Statistics (NCES) in 1987 and has been fielded every 3 to 4 years since. This submission is for the eighth cycle in the series, NPSAS:12, and requests reinstatement of the previously obtained clearance for NPSAS:08 (OMB No. 1850-0666 v.4). NPSAS: 12 will also serve as the base year study for the Beginning Postsecondary Students Longitudinal Study (BPS) of first-time postsecondary students that will focus on issues of persistence, degree attainment, and employment outcomes. Following the field test study in 2010, NCES will submit an OMB clearance package for the full scale. The NPSAS: 12 field test sample will include about 225 institutions (full-scale sample about 1,670) and about 4,500 students (120,000 full-scale). Institution contacting for the field test will begin in September 2010 and list collection will be conducted January through May 2011 (full-scale institution contacting will begin in September 2011 and student lists will be collected January through June 2012). A separate package to request clearance for student data collection (interviews and institution record data) will be submitted in September 2010. The main changes since the last NPSAS collection in 2008 consist of a new cohort of the Beginning Postsecondary Students Longitudinal Study (BPS) which will conduct follow-up studies in 2014 and 2017, and revised strata for institution sampling to reflect the recent growth in enrollment in for-profit 4-year institutions.

Requests for copies of the information collection submission for OMB review may be accessed from http://edicsweb.ed.gov, by selecting the “Browse Pending Collections” link and by clicking on link number 4238. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be electronically mailed to ICDocketMgr@ed.gov. Individuals who use a telecommunications device for the deaf (TDD) may call the Federal Information Relay Service (FIRS) at 1-800-877-8339.

[FR Doc. 2010-11826 Filed 5-17-10; 8:45 am]

BILLING CODE 4000-01-P